NATIONAL ARCHIVES AND RECORDS ADMINISTRATION

[NARA-2014-003]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 13, 2013. Once the appraisal of the records is completed, NARA will send a copy of the schedule. NARA staff usually prepares appraisal memoranda that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency that submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously-approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the government and of private persons directly affected by the government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Health and Human Services, Office of the Secretary (DAA-0468-2012-0009, 19 items, 18 temporary items). Records of the Office of General Counsel, including litigation case files, claims files, injunction files, background materials, and working papers. Proposed for permanent retention are significant legal advice and opinions.

2. Department of Health and Human Services, Centers for Medicare & Medicaid Services (DAA-0440-2013-0007, 4 items, 1 temporary item). Administrative records related to state-run pre-existing condition insurance plans. Proposed for permanent retention are technical guidelines, formal agreements, and statistical reports.

3. Department of Health and Human Services, Indian Health Service (DAA-0513-2013-0001, 3 items, 3 temporary items). Records include drafts, comments, background materials, and logs related to agency rulemaking.

4. Department of Health and Human Services, National Institutes of Health (DAA-0443-2012-0007, 12 items, 11 temporary items). Records of the intramural research program, including intellectual property records, project files, regulated research records, Institutional Review Board records, clinical care case files, radiology and imaging records, patient medical records, and medical staff credentialing records. Proposed for permanent retention are final plans, protocols, and final reports of historically significant intramural research.

5. Department of Homeland Security, Transportation Security Administration (N1-560-12-4, 2 items, 2 temporary items). Master files of an electronic information system used to track internal employee training.

6. Department of Homeland Security, Transportation Security Administration (N1-560-12-7, 2 items, 2 temporary items). Correspondence management records.

7. Department of Homeland Security, Transportation Security Administration (N1-560-12-9, 1 item, 1 temporary item). Master files of an electronic information system containing security incident information.

8. Department of Homeland Security, Transportation Security Administration (N1-560-12-11, 2 items, 2 temporary items). Master files and outputs of an electronic information system used to track personal property.

9. Department of Justice, Agency-wide (DAA-0060-2013-0008, 3 items, 3 temporary items). Records measuring the quality and integrity of government information disseminated to the public.

10. Department of Justice, United States Marshals Service (DAA-0527-2013-0003, 1 item, 1 temporary item). Records of authorizations for individual law enforcement officers to enforce Federal laws outside their normal authority.

11. Department of Labor, Employment and Training Administration (N1-369-09-1, 16 items, 9 temporary items). Field memorandums, handbooks, notices, letters, and working files. Proposed for permanent retention are procedure manuals, policy and guidance issuances, program notices, and related correspondence.

12. Department of the Navy, U.S. Marine Corps (DAA-0127-2013-0002, 1 item, 1 temporary item). Master files of an electronic information system used to track and control purchase requests.

13. Department of the Navy, U.S. Marine Corps (DAA-0127-2013-0016, 1 item, 1 temporary item). Master files of an electronic information system used to manage and schedule the retail workforce in Marine Corps facilities.

14. Department of Transportation, Federal Transit Administration (DAA-0408-2013-0008, 10 items, 10 temporary items). Records of web application systems used to display, track, and collect information on the agency's Web site.

15. Department of the Treasury, Departmental Offices (N1-56-11-03, 6 items, 6 temporary items). Records relating to the creation, maintenance, and content of the agency Web site.

16. Administrative Office of the United States Courts, District Courts of the United States (DAA-0021-2013-0008, 1 item, 1 temporary item). Records relating to non-trial civil case files heard in territorial district courts.

17. Government Printing Office, Agency-wide (DAA-0149-2013-0001, 244 items, 230 temporary items). Records relating to the 15 business functions of the agency, including records pertaining to administrative matters, budget, business operations, congressional operations, finance and billing, human resources, information technology operation, informational services, Inspector General, legal matters, management, plant operations, safety and risk management, secure document operations, and security. Proposed for permanent retention are official budget submissions, program and mission publications, photographs, posters, graphic arts, audiovisual records, historic apprentice yearbooks, Superintendent of Documents subject files, legislative project records, reports to Congress, General Counsel opinions, Public Printer's files, Deputy Public Printer's files, directives, and building and equipment plans.

18. National Archives and Records Administration, Government-wide (DAA-GRS-2013-0001, 7 items, 7 temporary items). A revised General Records Schedule to cover input and output records for electronic information systems and non-recordkeeping copies of electronic records.

Dated: November 5, 2013.
Paul M. Wester, Jr.,
Chief Records Officer for the U.S. Government.

[FR Doc. 2013-27075 Filed 11-12-13; 8:45 am]

BILLING CODE 7515-01-P